FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than March 27, 2018.

A. Federal Reserve Bank of Kansas City (Dennis Denney, Assistant Vice President) 1 Memorial Drive, Kansas City, Missouri 64198-0001:

1. Kelly Arnold, Wichita, Kansas; to acquire voting shares of Ramona Bankshares, Inc., and thereby acquire shares of Hillsboro State Bank, both of Hillsboro, Kansas, and to be approved as a member of the Arnold Family Group, which acting in concert controls Ramona Bankshares.

B. Federal Reserve Bank of San Francisco (Gerald C. Tsai, Director, Applications and Enforcement) 101 Market Street, San Francisco, California 94105-1579:

1. Basswood Capital Management, LLC; Basswood Opportunity Partners, LP, Basswood Financial Fund, LP, Basswood Enhanced Long Short Fund, LP, and Basswood Financial Long Only Fund, LP, funds for which Basswood Partners, LLC, serves as General Partner and Basswood Capital Management, LLC, serves as Investment Manager; Basswood Opportunity Fund, Inc., and Basswood Financial Fund, Inc., funds for which Basswood Capital Management, LLC, serves as Investment Manager; Basswood Capital Management, LLC, as investment adviser to five managed accounts; and Bennett Lindenbaum and Matthew Lindenbaum, as Managing Members of Basswood Partners, LLC, Basswood Enhanced Long Short GP, LLC, and Basswood Capital Management, LLC; all of New York, New York; to retain and acquire voting shares of American River Bankshares, Rancho Cordova, California, and thereby indirectly retain and acquire shares of American River Bank, Sacramento, California.

Board of Governors of the Federal Reserve System, March 7, 2018.
Ann E. Misback,
Secretary of the Board.

[FR Doc. 2018-04953 Filed 3-12-18; 8:45 am]

BILLING CODE P